DEPARTMENT OF JUSTICE

Antitrust Division

Notice Pursuant to the National Cooperative Research and Production Act of 1993—IPC—Association Connecting Electronics Industries

Notice is hereby given that, on August 12, 2005, pursuant to Section 6(a) of the National Cooperative Research and Production Act of 1993, 15 U.S.C. 4301 et seq. (“the Act”), IPC—Association Connecting Electronics Industries (“IPC”) has filed written notifications simultaneously with the Attorney General and the Federal Trade Commission disclosing additions or changes to its standards development activities. The notifications were filed for the purpose of extending the Act's provisions limiting the recovery of antitrust plaintiffs to actual damages under specified circumstances. Specifically, since September 14, 2004, IPC has published 9 Standards, undertaken 17 New Standard Setting Activities, and continues with 56 Standard Setting Activities as Works in Progress. For further information on these activities, please go to IPC's Web site: http://www.ipc.org/status.

On September 14, 2004, IPC filed its original notification pursuant to Section 6(a) of the Act. The Department of Justice published a notice in the Federal Register pursuant to Section 6(b) of the Act on October 21, 2004 (69 FR 61868).

Dorothy B. Fountain,
Deputy Director of Operations, Antitrust Division.

[FR Doc. 05-18043 Filed 9-12-05; 8:45 am]

BILLING CODE 4410-01-M